FEDERAL MARITIME COMMISSION

Notice of Agreement(s) Filed

The Commission hereby gives notice of the filing of the following agreement(s) under the Shipping Act of 1984. Interested parties can review or obtain copies of agreements at the Washington, DC offices of the Commission, 800 North Capitol Street, NW, Room 962. Interested parties may submit comments on an agreement to the Secretary, Federal Maritime Commission, Washington, DC 20573, within 10 days of the date this notice appears in the Federal Register.

Agreement No.: 203-011233-012

Title: USA-Southern and Eastern Africa Discussion Agreement

Parties: Lykes Lines Limited, LLC, Mediterranean Shipping Company SA, Safbank Line, Ltd., A.P. Moller-Maersk Sealand, P&O Nedlloyd Limited

Synopsis: The proposed modification adds authority to appoint an administrator, establish committees and delegate authority thereto, delete unnecessary provisions, and make other administrative changes.

Agreement No.: 203-011545-001

Title: Agreement between CSAV and Mitsui

Parties: Compania Sud Americana de Vapores Mitsui O.S.K. Lines, Ltd.

Synopsis: The proposed amendment would permit the parties to discuss and agree upon rates, charges, terms and conditions of service, including joint service contracts in the Agreement trade. Except for joint service contract entered into with shippers, adherence to any such agreement shall be voluntary. In the portion of the Agreement trade between ports and points served via United States Atlantic and Gulf ports and certain ports and points in Northern and Eastern South America, Central America, and the Caribbean, the parties would establish a revenue pool and agree on their vessel sailing schedules and itineraries.

Dated: February 11, 2000.
By Order of the Federal Maritime Commission.
Bryant L. VanBrakle,
Secretary.

[FR Doc. 00-3679 Filed 2-15-00; 8:45 am]

BILLING CODE 6730-01-P